DEPARTMENT OF ENERGY

Federal Energy Regulatory Commission

Combined Notice of Filings #1

Take notice that the Commission received the following electric corporate filings:

Docket Numbers: EC13-5-000.

Applicants: Tenaska Washington Partners, L.P., Puget Sound Energy, Inc.

Description: Tenaska Washington Partners, L.P., et. al. submits Application for Authorization for Disposition & Consolidation of Jurisdictional Facilities, Acquisition of an Existing Generation Facility, et. al.

Filed Date: 10/4/12.

Accession Number: 20121004-5196.

Comments Due: 5 p.m. ET 10/25/12.

Docket Numbers: EC13-6-000.

Applicants: Broken Bow Wind, LLC, Crofton Bluffs Wind, LLC.

Description: Application for Authorization for Disposition of Jurisdictional Facilities and Request for Expedited Action of Broken Bow Wind, LLC, et. al.

Filed Date: 10/4/12.

Accession Number: 20121004-5205.

Comments Due: 5 p.m. ET 10/25/12.

Take notice that the Commission received the following electric rate filings:

Docket Numbers: ER09-771-000.

Applicants: Entergy Services, Inc.

Description: KCP&L Greater Missouri Operations Company submits Informational Filing with Voluntary Refund to Westar Energy, Inc. & Cargill Power Marketers, L.L.C. in 2012.

Filed Date: 10/4/12.

Accession Number: 20121004-5195.

Comments Due: 5 p.m. ET 10/25/12.

Docket Numbers: ER12-2206-000; ER12-2208-000.

Applicants: Southern California Edison Company.

Description: Southern California Edison Company's submits Interconnection Handbook to the Response to August 10, 2012 letter requesting additional information.

Filed Date: 9/10/12.

Accession Number: 20120910-5201.

Comments Due: 5 p.m. ET 10/12/12.

Docket Numbers: ER12-2207-000; ER12-2209-000.

Applicants: California Independent System Operator Corporation.

Description: California Independent System Operator Corporation submits Response to August 10, 2012 Commission Staff's Deficiency Letter.

Filed Date: 9/17/12.

Accession Number: 20120917-5148.

Comments Due: 5 p.m. ET 10/12/12.

Docket Numbers: ER12-2630-001.

Applicants: Noble Americas Energy Solutions LLC.

Description: Amendment to Errata Tariff Filing to be effective 10/5/2012.

Filed Date: 10/4/12.

Accession Number: 20121004-5134.

Comments Due: 5 p.m. ET 10/25/12.

Docket Numbers: ER13-26-000.

Applicants: Midwest Independent Transmission System Operator, Inc.

Description: SA 2484 G830 GIA to be effective 10/5/2012.

Filed Date: 10/4/12.

Accession Number: 20121004-5136.

Comments Due: 5 p.m. ET 10/25/12.

Docket Numbers: ER13-27-000.

Applicants: PJM Interconnection, L.L.C.

Description: Notice of Cancellation of Svc Agrmt Nos. 2812 & 2813 in Docket No. ER11-3956-000 to be effective 9/6/2012.

Filed Date: 10/4/12.

Accession Number: 20121004-5171.

Comments Due: 5 p.m. ET 10/25/12.

Docket Numbers: ER13-28-000.

Applicants: Chesapeake Renewable Energy LLC.

Description: Baseline New to be effective 12/1/2012.

Filed Date: 10/5/12.

Accession Number: 20121005-5001.

Comments Due: 5 p.m. ET 10/26/12.

Docket Numbers: ER13-29-000.

Applicants: BITH Solar 1, LLC.

Description: Baseline New to be effective 12/1/2012.

Filed Date: 10/5/12.

Accession Number: 20121005-5002.

Comments Due: 5 p.m. ET 10/26/12.

Docket Numbers: ER13-30-000.

Applicants: The Midwest Independent Transmission System Operator, Inc.

Description: Notice of Termination of Generator Interconnection Agreement of The Midwest Independent Transmission System Operator, Inc.

Filed Date: 10/4/12.

Accession Number: 20121004-5193.

Comments Due: 5 p.m. ET 10/25/12.

Docket Numbers: ER13-31-000.

Applicants: New England Power Pool Participants Committee, ISO New England Inc.

Description: Tariff Revisions to Attachment G of ISO NE OATT to be effective 12/4/2012.

Filed Date: 10/5/12.

Accession Number: 20121005-5020.

Comments Due: 5 p.m. ET 10/26/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2012.
Nathaniel J. Davis, Sr.,
Deputy Secretary.

[FR Doc. 2012-25339 Filed 10-15-12; 8:45 am]

BILLING CODE 6717-01-P